ENVIRONMENTAL PROTECTION AGENCY

40 CFR Part 52

[PA217-4230a; FRL-7797-6]

Approval and Promulgation of Air Quality Implementation Plans; Pennsylvania; Withdrawal of Direct Final Rule

AGENCY: Environmental Protection Agency (EPA).

ACTION: Withdrawal of direct final rule.

SUMMARY: Due to adverse comments, EPA is withdrawing the direct final rule to amend Pennsylvania's ten-year plan to maintain the 1-hour ozone national ambient air quality standard (NAAQS) in the Pittsburgh-Beaver Valley ozone maintenance area (the Pittsburgh area). In the direct final rule published on July 1, 2004 (69 FR 39854), we stated that if we received adverse comment by August 2, 2004, the rule would be withdrawn and not take effect. EPA subsequently received adverse comments. EPA will address the comments received in a subsequent final action based upon the proposed action also published on July 1, 2004. EPA will not institute a second comment period on this action.

EFFECTIVE DATE: The Direct final rule is withdrawn as of August 5, 2004.

FOR FURTHER INFORMATION CONTACT: Larry Budney, Energy, Radiation and Indoor Environment Branch, Mail code 3AP23, U.S. Environmental Protection Agency, Region III, 1650 Arch Street, Philadelphia, Pennsylvania 19103; or by phone at (215) 814-2184.

List of Subjects in 40 CFR Part 52

Environmental protection, Air pollution control, Incorporation by reference, Nitrogen dioxide, Ozone, Reporting and recordkeeping requirements, Volatile organic compounds.

Dated: July 28, 2004.
Donald S. Welsh,
Regional Administrator, Region III.

Accordingly, the addition of § 52.2020(c)(226) is withdrawn as of August 5, 2004.

[FR Doc. 04-17781 Filed 8-4-04; 8:45 am]

BILLING CODE 6560-50-P